DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. There applications have been separated from the new application for exemption to facilitate processing.

DATES: Comments must be received on or before March 9, 2005.

Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC, or at http://dms.dot.gov.

This notice of receipt of applications for modification of exemption is published in accordance with Part 107 of the Federal hazardous materials transportation law (49 U.S.C. 5117(b); 49 CFR 1.53(b)).

Dated: Issued in Washington, DC, on February 15, 2005.
R. Ryan Posten,
Exemptions Program Officer, Office of Hazardous Materials Exemptions & Approvals.

Modification Exemptions
Application No. | Docket No. | Applicant | Regulation(s) affected | Modification of exemption | Nature of exemption thereof
11691-M |  | PepsiCo International, Valhalla, NY | 49 CFR 176.83(d); 176.331; 176.800(a) | 11691 | To modify the exemption to update a proper shipping description and authorize the transportation of a Class 9 material with Class 3 and Class 8 materials not subject to the segregation requirements for vessel storage when shipped in the same transport vehicle.
11917-M | RSPA-97-2741 | Sexton Can Company, Inc., Decatur, AL | 49 CFR 173.304(a) | 11917 | To modify the exemption to authorize an increased water capacity limit to 40.4 cubic inches and the transportation of an additional Division 2.1 material in non-DOT specification, non-refillable steel cylinders.
11970-M | RSPA-97-2993 | ExxonMobil Chemical Company, Mont Belvieu, TX | 49 CFR 172.101; 178.245-1(c) | 11970 | To modify the exemption to authorize an additional portable tank configuration and dimension drawing for transporting Division 4.2 materials and rail freight as a mode of transportation.
12384-M | RSPA-99-6561 | OilAir Hydraulics, Inc., Houston, TX | 49 CFR 173.302(a)(1); 175.3 | 12384 | To modify the exemption to authorize an increased design pressure not to exceed 10,000 psig and a minimum 3:1 design service to burst ratio for the steel hydraulic accumulators transporting Division 2.2 materials.
12643-M | RSPA-01-9066 | Northup Grumman Space Technology, Redondo Beach, CA | 49 CFR 173.302 and 175.3 | 12643 | To modify the exemption to authorize and additional design change to the pulse tube cooler with an increased volume to 1100 cc and test pressure to 915 psig shipped inside a strong, foam filled shipping container.
13580-M | RSPA-04-18506 | Carleton Technologies Inc., Orchard Park, NY | 40 CFR 178.65 | 13580 | To modify the exemption to authorize a larger non-DOT specification pressure vessel with increased service, test and burst pressures for the transportation of Division 2.2 materials.

[FR Doc. 05-3373 Filed 2-18-05; 8:45 am]

BILLING CODE 4909-60-M